DEPARTMENT OF COMMERCE

Submission for OMB Review; Comment Request

The Department of Commerce will submit to the Office of Management and Budget (OMB) for clearance the following proposal for collection of information under the provisions of the Paperwork Reduction Act (44 U.S.C. chapter 35).

Agency: Office of the Secretary, Office of Civil Rights.

Title: Reporting Process for Complaint of Employment Discrimination Used by Permanent Employees and Applicants for Employment at DOC.

OMB Control Number: 0690-0015.

Form Number(s): CD-498.

Type of Request: Regular submission (revision of a currently approved information collection).

Burden Hours: 200.

Number of Respondents: 400.

Average Hours per Response: 30 minutes.

Needs and Use: Equal Employment Opportunity Commission (EEOC) regulations at 29 CFR 1614.106 require that a person alleging discriminatory treatment by a Federal agency, based on race, color, religion, sex, national origin, age, disability, and/or reprisal for participation in equal employment opportunity (EEO) activity, must submit a signed statement that is sufficiently precise to identify the general actions or practices that form the basis of the complaint. This information collection involves the complaint process which will allow the Office of Civil Rights to gather reliable data on the type of complaints filed, and to make the determination of whether a complaint meets all procedural and jurisdictional requirements for acceptance.

Affected Public: Individuals or households.

Frequency: On occasion.

Respondent's Obligation: Voluntary.

OMB Desk Officer: Nicholas Fraser (202) 395-5887.

Copies of the above information collection proposal can be obtained by calling or writing Diana Hynek, Departmental Paperwork Clearance Officer, (202) 482-0266, Department of Commerce, Room 6616, 14th and Constitution Avenue, NW., Washington, DC 20230 (or via e-mail at dHynek@doc.gov).

Written comments and recommendations for the proposed information collection should be sent within 30 days of publication of this notice to Nicholas Fraser, OMB Desk Officer, Fax number (202) 395-7258 or via e-mail at Nicholas_A._Fraser@omb.eop.gov.

Dated: July 20, 2011.
Gwellnar Banks,
Management Analyst, Office of the Chief Information Officer.

[FR Doc. 2011-18672 Filed 7-22-11; 8:45 am]

BILLING CODE 3510-BP-P